DEPARTMENT OF HEALTH AND HUMAN SERVICES

Centers for Disease Control and Prevention

Disease, Disability, and Injury Prevention and Control Special Emphasis Panel (SEP): Optimal Resources and Care for Children With Craniofacial Malformations, Request for Applications (RFA) DD07-008 and Public Health Research Grants on Orofacial Clefts and Craniosynostosis, RFA DD07-009

In accordance with section 10(a)(2) of the Federal Advisory Committee Act (Pub. L. 92-463), the Centers for Disease Control and Prevention (CDC) announces the following meeting of the aforementioned SEP:

Time and Date: 1 p.m.-4 p.m., June 4, 2007 (Closed).

Place: Teleconference.

Status: The meeting will be closed to the public in accordance with provisions set forth in Section 552b(c)(4) and (6), Title 5 U.S.C., and the Determination of the Director, Management Analysis and Services Office, CDC, pursuant to Public Law 92-463.

Matters to be Discussed: The meeting will include the review, discussion, and evaluation of scientific merit of grant applications received in response to RFA DD07-008, “Optimal Resources and Care for Children with Craniofacial Malformations,” and RFA DD07-009, “Public Health Research Grants on Orofacial Clefts and Craniosynostosis,” RFA DD07-009.

Contact Person for More Information: Maurine Goodman, MA, MPH, Scientific Review Administrator, Centers for Disease Control and Prevention, 1600 Clifton Road, NE., Mailstop D72, Atlanta, GA 30333, Telephone 404.639.4737.

The Director, Management Analysis and Services Office, has been delegated the authority to sign Federal Register notices pertaining to announcements of meetings and other committee management activities, for both CDC and the Agency for Toxic Substances and Disease Registry.

Dated: April 20, 2007.
Elaine L. Baker,
Acting Director, Management Analysis and Services Office, Centers for Disease Control and Prevention.

[FR Doc. E7-8074 Filed 4-26-07; 8:45 am]

BILLING CODE 4163-18-P